DEPARTMENT OF AGRICULTURE

Animal and Plant Health Inspection Service

[Docket No. APHIS-2013-0031]

Feral Swine Damage Management Final Environmental Impact Statement; Record of Decision

AGENCY: Animal and Plant Health Inspection Service, USDA.

ACTION: Notice.

SUMMARY: This notice advises the public of the Animal and Plant Health Inspection Service's record of decision for the final environmental impact statement titled “Feral Swine Damage Management: A National Approach.”

DATES: Effective August 11, 2015.

ADDRESSES: You may read the final environmental impact statement and the record of decision in our reading room. The reading room is located in room 1141 of the USDA South Building, 14th Street and Independence Avenue SW., Washington, DC. Normal reading room hours are 8 a.m. to 4:30 p.m., Monday through Friday, except holidays. To be sure someone is there to help you, please call (202) 799-7039 before coming.

The record of decision, final environmental impact statement, and supporting information may also be found by visiting the APHIS feral swine environmental impact statement Web page at www.aphis.usda.gov/wildlife-damage/fseis. To obtain copies of the documents, contact the person listed under FOR FURTHER INFORMATION CONTACT.

FOR FURTHER INFORMATION CONTACT: Dr. Kimberly Wagner, USDA-APHIS Wildlife Services, 732 Lois Drive, Sun Prairie, WI; (608) 837-2737; kimberly.k.wagner@aphis.usda.gov.

SUPPLEMENTARY INFORMATION: On June 12, 2015, the U.S. Environmental Protection Agency (EPA) published in the Federal Register (80 FR 33519, Document No. 2015-14435) a notice of the availability of a final environmental impact statement (FEIS) by the Animal and Plant Health Inspection Service (APHIS) titled “Feral Swine Damage Management: A National Approach.”

Under the National Environmental Policy Act (NEPA) implementing regulations in 40 CFR 1506.10, with limited exceptions, an Agency must wait a minimum of 30 days after publication of the EPA's notice of an FEIS before issuing a record of decision regarding actions covered by that FEIS. Accordingly, this notice advises the public that the waiting period has elapsed, and APHIS has issued a record of decision to implement the preferred alternative described in the FEIS titled “Feral Swine Damage Management: A National Approach.”

APHIS' record of decision has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 5th day of August 2015.
Kevin Shea,
Administrator, Animal and Plant Health Inspection Service.

[FR Doc. 2015-19699 Filed 8-10-15; 8:45 am]

BILLING CODE 3410-34-P